DEPARTMENT OF LABOR

Employment and Training Administration

[TA-W-56,850]

Hydro-Logic Services, LLC; Warren, MI; Notice of Termination of Investigation

Pursuant to Section 221 of the Trade Act of 1974, as amended, an investigation was initiated on March 30, 2005 in response to a petition filed on behalf of workers at Hydro-Logic Services, LLC, Warren, Michigan.

The petition has been deemed invalid. Not all of the individuals filing the petition were workers of the firm. Consequently, further investigation would serve no purpose, and the investigation has been terminated.

Signed at Washington, DC, this 28th day of April, 2005.
Linda G. Poole,
Certifying Officer, Division of Trade Adjustment Assistance.

[FR Doc. E5-2430 Filed 5-13-05; 8:45 am]

BILLING CODE 4510-30-P